DEPARTMENT OF AGRICULTURE

Forest Service

John Day/Snake Resource Advisory Council, Hells Canyon Subgroup

AGENCY: Forest Service, USDA.

ACTION: Notice of meeting.

SUMMARY: The Hells Canyon subgroup of the John Day/Snake Resource Advisory Council will meet on January 30-31, 2003 at the Presbyterian Church on 4th and Washington, Baker City, OR 97814. The meeting will begin at 10 a.m. and continue until 5 p.m. the first day and day 2 will begin at 8 a.m. and will end at 2 p.m. Public comment will be heard on January 30, 2003 at 1 p.m.

FOR FURTHER INFORMATION CONTACT: Direct questions regarding this meeting to Kendall Clark, Area Ranger, USDA, Hells Canyon National Recreation area, 88401 Highway 82, Enterprise, OR 97828, 541-426-5501.

Dated: December 19, 2002.
Karyn L. Wood,
Forest Supervisor.

[FR Doc. 02-32672 Filed 12-26-02; 8:45 am]

BILLING CODE 3410-11-M